DEPARTMENT OF THE INTERIOR

Bureau of Land Management

[CO-200-0777-XZ-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held May 10, 2006 from 10 a.m. to 5 p.m. and May 11, 2006 from 8 a.m. to 2 p.m.

ADDRESS: Holy Cross Abbey Community Center, 2951 E. Highway 50, Canon City, Colorado 81212.

FOR FURTHER INFORMATION CONTACT: Ken Smith, (719) 269-8500.

SUPPLEMENTARY INFORMATION: The 15 member Council advises the Secretary of the Interior, through the Bureau of Land Management, on a variety of planning and management issues associated with public land management in the Royal Gorge Field Office and San Luis Valley, Colorado. Planned agenda topics on May 10, 2006 include: The BLM fine system, and the Council will tour a Trials Event site. On May 11, 2006 agenda topics will include presentations and discussions on the Recreation Enhancement Act, access to public land and Trials Events. All meetings are open to the public. The public is encouraged to make oral comments to the Council on May 10 at 10:15 a.m. or written statements may be submitted for the Councils consideration. Depending on the number of persons wishing to comment and time available, the time for individual oral comments may be limited. The public is also welcome to attend the field tour on May 10, however they may need to provide their own transportation. Summary minutes for the Council Meeting will be maintained in the Royal Gorge Field Office and will be available for public inspection and reproduction during regular business hours within thirty (30) days following the meeting. Meeting Minutes and agenda (10 days prior to each meeting) are also available at: http://www.blm.gov/rac/co/frrac/co_fr.htm.

Dated: April 5, 2006.
Roy L. Masinton,
Royal Gorge Field Manager.

[FR Doc. E6-5243 Filed 4-10-06; 8:45 am]

BILLING CODE 4310-JB-P